DEPARTMENT OF ENERGY

Federal Energy Regulatory Commission

Combined Notice of Filings #1

Take notice that the Commission received the following exempt wholesale generator filings:

Docket Numbers: EG19-122-000.

Applicants: Talen Montana, LLC.

Description: Notice of Self-Certification of Exempt Wholesale Generator Status of Talen Montana, LLC.

Filed Date: 6/7/19.

Accession Number: 20190607-5055.

Comments Due: 5 p.m. ET 6/28/19.

Take notice that the Commission received the following electric rate filings:

Docket Numbers: ER10-1789-007; ER10-1768 006; ER10-1770 006; ER10-1771 006; ER10-1793 006; ER12-1250 006; ER16-1924 004; ER16-1925 004; ER16-1926 004; ER16-2725 004; ER17-2426 002; ER19-1738 001.

Applicants: PSEG Energy Resources & Trade LLC, PSEG Energy Solutions LLC, PSEG Fossil LLC, PSEG New Haven LLC, PSEG Nuclear LLC, PSEG Power Connecticut LLC, Pavant Solar II LLC, Bison Solar LLC, San Isabel Solar LLC, Public Service Electric and Gas Company, PSEG Keys Energy Center LLC, PSEG Fossil Sewaren Urban Renewal LLC.

Description: Notice of Non-Material Change in Status of the PSEG Affiliates.

Filed Date: 6/6/19.

Accession Number: 20190606-5138.

Comments Due: 5 p.m. ET 6/27/19.

Docket Numbers: ER10-2437-014.

Applicants: Arizona Public Service Company.

Description: Notice of Change in Status of Arizona Public Service Company.

Filed Date: 6/6/19.

Accession Number: 20190606-5134.

Comments Due: 5 p.m. ET 6/27/19.

Docket Numbers: ER19-1342-000; ER19-1343-000.

Applicants: NMRD Data Center III, LLC.

Description: Second Supplement to March 18, 2019 NMRD Data Center III, LLC, et al. tariff filings.

Filed Date: 6/6/19.

Accession Number: 20190606-5133.

Comments Due: 5 p.m. ET 6/17/19.

Docket Numbers: ER19-2062-001.

Applicants: AEP Texas Inc.

Description: Tariff Amendment: AEPTX-Callahan Wind GIA 1st Amend & Restated Amendment to be effective 5/22/2019.

Filed Date: 6/6/19.

Accession Number: 20190606-5095.

Comments Due: 5 p.m. ET 6/27/19.

Docket Numbers: ER19-2067-000.

Applicants: Southwest Power Pool, Inc.

Description: § 205(d) Rate Filing: 2562R7 Kansas Municipal Energy Agency NITSA and NOA to be effective 9/1/2019.

Filed Date: 6/7/19.

Accession Number: 20190607-5016.

Comments Due: 5 p.m. ET 6/28/19.

Docket Numbers: ER19-2068-000.

Applicants: Duke Energy Carolinas, LLC.

Description: § 205(d) Rate Filing: DEC-8 Towns Dynamic Transfer Agreements to be effective 6/8/2019.

Filed Date: 6/7/19.

Accession Number: 20190607-5017.

Comments Due: 5 p.m. ET 6/28/19.

Docket Numbers: ER19-2069-000.

Applicants: Northern States Power Company, a Minnesota corporation.

Description: § 205(d) Rate Filing: 2019-06-07 NSP-MMPA-I&I Agrmt-3-0.1.0-NOC to be effective 6/8/2019.

Filed Date: 6/7/19.

Accession Number: 20190607-5058.

Comments Due: 5 p.m. ET 6/28/19.

Docket Numbers: ER19-2070-000.

Applicants: PacifiCorp.

Description: § 205(d) Rate Filing: Colstrip Trans System LGIA—Concurrence Clearwater Energy to be effective 5/21/2019.

Filed Date: 6/7/19.

Accession Number: 20190607-5059.

Comments Due: 5 p.m. ET 6/28/19.

Docket Numbers: ER19-2071-000.

Applicants: Southwest Power Pool, Inc.

Description: § 205(d) Rate Filing: 2198R27 Kansas Power Pool NITSA NOA to be effective 9/1/2019.

Filed Date: 6/7/19.

Accession Number: 20190607-5061.

Comments Due: 5 p.m. ET 6/28/19.

Docket Numbers: ER19-2072-000.

Applicants: PJM Interconnection, L.L.C.

Description: § 205(d) Rate Filing: Amendment to ISA Nos. 2639 & 3378, Queue Nos. T109_T110 & W2-010_W2011 (amend) to be effective 8/30/2010.

Filed Date: 6/7/19.

Accession Number: 20190607-5072.

Comments Due: 5 p.m. ET 6/28/19.

Docket Numbers: ER19-2073-000

Applicants: California Independent System Operator Corporation.

Description: Tariff Cancellation: 2019-06-07 Gates-Gregg Project APSA Notice of Termination to be effective 6/1/2019.

Filed Date: 6/7/19.

Accession Number: 20190607-5073.

Comments Due: 5 p.m. ET 6/28/19.

Docket Numbers: ER19-2074-000.

Applicants: Idaho Power Company.

Description: § 205(d) Rate Filing: EIM Clarifications and Tariff Cleanup to be effective 8/16/2019.

Filed Date: 6/7/19.

Accession Number: 20190607-5083.

Comments Due: 5 p.m. ET 6/28/19.

Docket Numbers: ER19-2075-000.

Applicants: NorthWestern Corporation.

Description: § 205(d) Rate Filing: SA591 8th Rev—NITSA with Benefis Health System to be effective 7/1/2019.

Filed Date: 6/7/19.

Accession Number: 20190607-5084.

Comments Due: 5 p.m. ET 6/28/19.

Docket Numbers: ER19-2076-000.

Applicants: NorthWestern Corporation.

Description: § 205(d) Rate Filing: SA305 14th Rev—NITSA with Stillwater Mining Company to be effective 7/1/2019.

Filed Date: 6/7/19.

Accession Number: 20190607-5085.

Comments Due: 5 p.m. ET 6/28/19.

Docket Numbers: ER19-2077-000.

Applicants: Public Service Company of Colorado.

Description: § 205(d) Rate Filing: OATT Att O-PSCo Deprec/TCJA Filing—DRAFT to be effective 1/1/2018.

Filed Date: 6/7/19.

Accession Number: 20190607-5086.

Comments Due: 5 p.m. ET 6/28/19.

Docket Numbers: ER19-2078-000.

Applicants: PJM Interconnection, L.L.C.

Description: § 205(d) Rate Filing: Amendment to ISA SA No. 5034; Queue No. AC1-097 to be effective 3/7/2018.

Filed Date: 6/7/19.

Accession Number: 20190607-5095.

Comments Due: 5 p.m. ET 6/28/19.

Docket Numbers: ER19-2079-000.

Applicants: Midcontinent Independent System Operator, Inc.

Description: § 205(d) Rate Filing: 2019-06-07_SA 3311 Indian Lakes Upgrade MPFCA (J928 J849) to be effective 5/23/2019.

Filed Date: 6/7/19.

Accession Number: 20190607-5096.

Comments Due: 5 p.m. ET 6/28/19.

Docket Numbers: ER19-2080-000.

Applicants: Southwest Power Pool, Inc.

Description: § 205(d) Rate Filing: East River Formula Rate Revisions to Modify Depreciation Rates to be effective 1/1/2019.

Filed Date: 6/7/19.

Accession Number: 20190607-5119.

Comments Due: 5 p.m. ET 6/28/19.

Docket Numbers: ER19-2081-000.

Applicants: Midcontinent Independent System Operator, Inc., Troutman Sanders LLP.

Description: § 205(d) Rate Filing: 2019-06-07_SA 1926 & SA 3315 METC-CE DTIA and TSA to be effective 12/31/9998.

Filed Date: 6/7/19.

Accession Number: 20190607-5121.

Comments Due: 5 p.m. ET 6/28/19.

Docket Numbers: ER19-2082-000.

Applicants: Southwest Power Pool, Inc.

Description: § 205(d) Rate Filing: 3211R1 North Iowa Municipal Electric Cooperative Association NITSA and NOA to be effective 6/1/2019.

Filed Date: 6/7/19.

Accession Number: 20190607-5129.

Comments Due: 5 p.m. ET 6/28/19.

Docket Numbers: ER19-2083-000.

Applicants: Golden Spread Electric Cooperative, Inc.

Description: § 205(d) Rate Filing: Amended and Restated WPC—Rider F and Rev Def to be effective 6/1/2019.

Filed Date: 6/7/19.

Accession Number: 20190607-5130.

Comments Due: 5 p.m. ET 6/28/19.

Take notice that the Commission received the following electric securities filings:

Docket Numbers: ES19-32-000.

Applicants: New York State Electric & Gas Corporation, Rochester Gas and Electric Corporation, Central Maine Power Company, The United Illuminating Company.

Description: Application under Section 204 of the Federal Power Act for Authorization to Issue Securities, et al. of Avangrid Service Company, on behalf of its affiliate companies.

Filed Date: 6/7/19.

Accession Number: 20190607-5018.

Comments Due: 5 p.m. ET 6/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2019.
Kimberly D. Bose,
Secretary.

[FR Doc. 2019-12457 Filed 6-12-19; 8:45 am]

BILLING CODE 6717-01-P